DEPARTMENT OF COMMERCE

Economic Development Administration

Senior Executive Service: Performance Review Boards; Membership

AGENCY: Economic Development Administration, Commerce.

ACTION: Notice.

SUMMARY: Announcement of New Members for the Performance Review Board.

FOR FURTHER INFORMATION CONTACT: LaVerne H. Hawkins, Department of Commerce, Office of Human Resources, Room 7412, Washington, DC 20230.

SUPPLEMENTARY INFORMATION: The following individuals are eligible to serve on the Economic Development Administration's Performance Review Board:

Gerald R. Lucas, Chairperson, Deputy Chief Financial Officer

Mary Pleffner, Chief Financial Officer

James L. Taylor, Deputy Chief Financial Officer, Office of the Secretary

Deborah Jefferson, Deputy Director, Office of Human Resources Management, Office of the Secretary

Samuel Calderon, Deputy Director, Office of Budget, Office of the Secretary

LaVerne H. Hawkins, Executive Secretary, ITA, Office of Human Resources Management, (202) 482-2537

Dated: October 17, 2001.
Vicki G. Brooks,
Human Resources Manager for the Economic Development Administration.

[FR Doc. 01-26589 Filed 10-22-01; 8:45 am]

BILLING CODE 3510-25-P